DEPARTMENT OF JUSTICE

28 CFR Part 85

[Docket No. OLP 178]

Civil Monetary Penalties Inflation Adjustments for 2025

AGENCY: Department of Justice.

ACTION: Final rule.

SUMMARY: The Department of Justice is adjusting for inflation the civil monetary penalties assessed or enforced by components of the Department, in accordance with the provisions of the Federal Civil Penalties Inflation Adjustment Act of 1990, as amended, for penalties assessed after [INSERT DATE OF PUBLICATION IN THE FEDERAL REGISTER] with respect to violations occurring after November 2, 2015.

DATES: This rule is effective July 3, 2025.

FOR FURTHER INFORMATION CONTACT: Robert Hinchman, Senior Counsel, Office of Legal Policy, U.S. Department of Justice, Room 4252 RFK Building, 950 Pennsylvania Avenue NW, Washington, DC 20530, telephone (202) 514-8059 (not a toll-free number).

SUPPLEMENTARY INFORMATION:

I. Statutory Process for Implementing Annual Inflation Adjustments

In accordance with the requirements of section 4 of the Federal Civil Monetary Penalties Inflation Adjustment Act of 1990, Public Law 101-410 (the “Inflation Adjustment Act”), as amended, (28 U.S.C. 2461 note) Justice is required periodically to adjust for inflation the civil monetary penalties assessed or enforced by the Department by publishing a rule in the Federal Register.

Section 701 of the Bipartisan Budget Act of 2015, Public Law 114-74 (Nov. 2, 2015) (“BBA”), substantially revised the prior provisions of the Inflation Adjustment Act and substituted a different statutory formula for calculating inflation adjustments on an annual basis.

The BBA further requires agencies to adjust their civil penalties on January 15 of each year thereafter to account for inflation during the preceding year.

Pursuant to the Inflation Adjustment Act, as amended, the Department has promulgated a series of rules adjusting the civil money penalties for inflation. Readers may refer to the Supplementary Information (also known as the preamble) of the Department's prior inflation adjustment rules for additional background information regarding the statutory authority for adjustments of civil monetary penalty amounts to take account of inflation and the Department's past implementation of inflation adjustments.

Most recently, the Department published a final rule on February 12, 2024 (89 FR 9764), to adjust the civil money penalties to account for inflation occurring since 2023.

II. Inflation Adjustments Made by This Rule

As required, the Department is publishing this final rule to adjust for 2025 the Department's current civil penalties. Under the statutory formula, the adjustments made by this rule are based on the Bureau of Labor Statistics' Consumer Price Index for October 2024. M-25-02 (Dec. 17, 2024) https://www.whitehouse.gov/wp-content/uploads/2024/12/M-25-02.pdf (last visited Dec. 26, 2024) instructs that the applicable inflation factor for this adjustment is 1.02598.

Accordingly, this rule adjusts the civil penalty amounts in 28 CFR 85.5 by applying this inflation factor mechanically to each of the civil penalty amounts listed (rounded to the nearest dollar).

Example

• In 2016, the Program Fraud Civil Remedies Act penalty was increased to $10,781 in accordance with the adjustment requirements of the BBA.

• For 2017, where the applicable inflation factor was 1.01636, the existing penalty of $10,781 was multiplied by 1.01636 and revised to $10,957.

• For 2024, where the applicable inflation factor was 1.03241 the existing penalty of $13,508 was multiplied by 1.03241 and revised to $13,946.

• For this final rule in 2025, where the applicable inflation factor is 1.02598 the existing penalty of $13,946 is multiplied by 1.02598 and revised to $14,308.

This rule adjusts for inflation civil monetary penalties within the jurisdiction of the Department of Justice for purposes of the Inflation Adjustment Act, as amended. Other agencies are responsible for the inflation adjustments of certain other civil monetary penalties that the Department's litigating components bring suit to collect. The reader should consult the regulations of those other agencies for inflation adjustments to those penalties.

III. Effective Date of Adjusted Civil Penalty Amounts

Under this rule, the adjusted civil penalty amounts for 2025 are applicable only to civil penalties assessed after July 3, 2025, with respect to violations occurring after November 2, 2015, the date of enactment of the BBA.

The penalty amounts set forth in the existing provisions of 28 CFR 85.5, and its accompanying table, are applicable to all covered civil penalties assessed after August 1, 2016, and on or before July 3, 2025, with respect to violations occurring after November 2, 2015.

The revised table in this rule lists the civil penalty amounts as adjusted in 2025 and 2024. For civil penalty amounts as adjusted in years prior to 2024, readers should refer to the appropriate previously-published rule.¹

¹ 81 FR 42491 (Jun. 30, 2016); 82 FR 9131 (Feb. 3, 2017); 83 FR 3944 (Jan. 29, 2018); 85 FR 37004 (Jun. 19, 2020); 86 FR 70740 (Dec. 13, 2021); 87 FR 27513 (May 9, 2022); 88 FR 5776 (Jan. 30, 2023); 89 FR 9764 (Feb. 12, 2024).

Civil penalties for violations occurring on or before November 2, 2015, and assessments made on or before August 1, 2016, continue to be subject to the civil monetary penalty amounts set forth in the Department's regulations in 28 CFR parts 20, 22, 36, 68, 71, 76, and 85 as such regulations were in effect prior to August 1, 2016 (or as set forth by statute if the amount had not yet been adjusted by regulation prior to August 1, 2016). See 83 FR 3944.

IV. Statutory and Regulatory Analyses

A. Administrative Procedure Act

The BBA provides that, for each annual adjustment made after the initial adjustments of civil penalties in 2016, the head of an agency shall adjust the civil monetary penalties each year notwithstanding 5 U.S.C. 553. Accordingly, this rule is being issued as a final rule without prior notice and public comment, and without a delayed effective date.

B. Regulatory Flexibility Act

Only those entities that are determined to have violated Federal law and regulations would be affected by the increase in the civil penalty amounts made by this rule. A Regulatory Flexibility Act analysis is not required for this rule because publication of a notice of proposed rulemaking was not required. See 5 U.S.C. 603(a).

C. Executive Order 12866 (Regulatory Planning and Review), Executive Order 13563 (Improving Regulation and Regulatory Review), and Executive Order 14192 (Unleashing Prosperity Through Deregulation)

This final rule has been drafted in accordance with Executive Order 12866, “Regulatory Planning and Review,” section 1(b), The Principles of Regulation, and in accordance with Executive Order 13563, “Improving Regulation and Regulatory Review,” section 1, General Principles of Regulation. The Department of Justice has determined that this rule is not a “significant regulatory action” under Executive Order 12866, “Regulatory Planning and Review,” section 3(f), and, accordingly, this rule has not been reviewed by the Office of Management and Budget. This final rule implements the BBA by making an across-the-board adjustment of the civil penalty amounts in 28 CFR 85.5 to account for inflation since the adoption of the Department's final rule published on January 30, 2023 (88 FR 5776).

Further, as this rule is not a “significant regulatory action” pursuant to Executive Order 12866, it is not an “Executive Order 14192 action” and, accordingly, it is it is fully exempt from the numerical 10-for-1 and cost offset requirements of Executive Order 14192.

D. Executive Order 13132—Federalism

This rule will not have substantial direct effects on the States, on the relationship between the National Government and the States, or on the distribution of power and responsibilities among the various levels of government. Therefore, in accordance with Executive Order 13132, it is determined that this rule does not have sufficient federalism implications to warrant the preparation of a Federalism Assessment.

E. Executive Order 12988—Civil Justice Reform

This rule meets the applicable standards set forth in sections 3(a) and 3(b)(2) of Executive Order 12988.

F. Unfunded Mandates Reform Act of 1995

This rule will not result in the expenditure by State, local, and tribal governments, in the aggregate, or by the private sector, of $100 million or more in any one year (as adjusted for inflation), and it will not significantly or uniquely affect small governments. Therefore, no actions were deemed necessary under the provisions of the Unfunded Mandates Reform Act of 1995.

G. Congressional Review Act

This rule is not a major rule as defined by the Congressional Review Act, 5 U.S.C. 804.

List of Subjects in 28 CFR Part 85

Administrative practice and procedure, Penalties.

Under rulemaking authority vested in the Attorney General in 5 U.S.C. 301; 28 U.S.C. 509, 510 and delegated to the Assistant Attorney General, Office of Legal Policy, by A.G. Order No. 5328-2022, and for the reasons set forth in the preamble, chapter I of title 28 of the Code of Federal Regulations is amended as follows:

PART 85—CIVIL MONETARY PENALTIES INFLATION ADJUSTMENT

1. The authority citation for part 85 continues to read as follows:

Authority: 5 U.S.C. 301, 28 U.S.C. 503; Pub. L. 101-410, 104 Stat. 890, as amended by Pub. L. 104-134, 110 Stat. 1321; Pub. L. 114-74, section 701, 28 U.S.C. 2461 note.

2. Section 85.5 is revised to read as follows:

§ 85.5 Adjustments to penalties for violations occurring after November 2, 2015.

(a) For civil penalties assessed after July 3, 2025, whose associated violations occurred after November 2, 2015, the civil monetary penalties provided by law within the jurisdiction of the Department are adjusted as set forth in the fifth column of table 1 to this section.

(b) For civil penalties assessed after February 12, 2024, and on or before July 3, 2025 whose associated violations occurred after November 2, 2015, the civil monetary penalties provided by law within the jurisdiction of the Department are adjusted as set forth in the fourth column of table 1 to this section.

(c) All figures set forth in table 1 to this section are maximum penalties, unless otherwise indicated.

Table 1 to § 85.5
U.S.C. citation | Name/description | CFR citation | DOJ penalty assessed after 2/12/2024 ¹ ($) | DOJ penalty assessed after July 3, 2025 ² ($)
ATF
18 U.S.C. 922(t)(5) | Brady Law—Nat'l Instant Criminal Check System (NICS); Transfer of firearm without checking NICS |  | 10,557 | 10,831
18 U.S.C. 924(p) | Child Safety Lock Act; Secure gun storage or safety device, violation |  | 3,861 | 3,961
Civil Division
12 U.S.C. 1833a(b)(1) | Financial Institutions Reform, Recovery, and Enforcement Act (FIRREA) Violation | 28 CFR 85.3(a)(6) | 2,449,575 | 2,513,215
12 U.S.C. 1833a(b)(2) | FIRREA Violation (continuing) (per day) | 28 CFR 85.3(a)(7) | 2,449,575 | 2,513,215
12 U.S.C. 1833a(b)(2) | FIRREA Violation (continuing) | 28 CFR 85.3(a)(7) | 12,247,886 | 12,566,086
22 U.S.C. 2399b(a)(3)(A) | Foreign Assistance Act; Fraudulent Claim for Assistance (per act) | 28 CFR 85.3(a)(8) | 7,114 | 7,299
31 U.S.C. 3729(a) | False Claims Act; ³ Violations | 28 CFR 85.3(a)(9) | Min 13,946, Max 27,894 | Min 14,308, Max 28,619
31 U.S.C. 3802(a)(1) | Program Fraud Civil Remedies Act; Violations Involving False Claim (per claim) | 28 CFR 71.3(a) | 13,946 | 14,308
31 U.S.C. 3802(a)(2) | Program Fraud Civil Remedies Act; Violation Involving False Statement (per statement) | 28 CFR 71.3(f) | 13,946 | 14,308
40 U.S.C. 123(a)(1)(A) | Federal Property and Administrative Services Act; Violation Involving Surplus Government Property (per act) | 28 CFR 85.3(a)(12) | 7,114 | 7,299
41 U.S.C. 8706(a)(1)(B) | Anti-Kickback Act; Violation Involving Kickbacks ⁴ (per occurrence) | 28 CFR 85.3(a)(13) | 27,894 | 28,619
18 U.S.C. 2723(b) | Driver's Privacy Protection Act of 1994; Prohibition on Release and Use of Certain Personal Information from State Motor Vehicle Records—Substantial Non-compliance (per day) |  | 10,289 | 10,556
18 U.S.C. 216(b) | Ethics Reform Act of 1989; Penalties for Conflict of Interest Crimes ⁵ (per violation) | 28 CFR 85.3(c) | 122,480 | 125,662
41 U.S.C. 2105(b)(1) | Office of Federal Procurement Policy Act; ⁶ Violation by an individual (per violation) |  | 127,983 | 131,308
41 U.S.C. 2105(b)(2) | Office of Federal Procurement Policy Act; ⁶ Violation by an organization (per violation) |  | 1,279,819 | 1,313,069
42 U.S.C. 5157(d) | Disaster Relief Act of 1974; ⁷ Violation (per violation) |  | 16,170 | 16,590
Civil Rights Division (excluding immigration-related penalties)
18 U.S.C. 248(c)(2)(B)(i) | Freedom of Access to Clinic Entrances Act of 1994 (“FACE Act”); Nonviolent physical obstruction, first violation | 28 CFR 85.3(b)(1)(i) | 20,516 | 21,049
18 U.S.C. 248(c)(2)(B)(ii) | FACE Act; Nonviolent physical obstruction, subsequent violation | 28 CFR 85.3(b)(1)(ii) | 30,868 | 31,670
18 U.S.C. 248(c)(2)(B)(i) | FACE Act; Violation other than a nonviolent physical obstruction, first violation | 28 CFR 85.3(b)(2)(i) | 30,868 | 31,670
18 U.S.C. 248(c)(2)(B)(ii) | FACE Act; Violation other than a nonviolent physical violation) | 28 CFR 85.3(b)(2)(ii) | 51,449 | 52,786
42 U.S.C. 3614(d)(1)(C)(i) | Fair Housing Act of 1968; first violation | 28 CFR 85.3(b)(3)(i) | 127,983 | 131,308
42 U.S.C. 3614(d)(1)(C)(ii) | Fair Housing Act of 1968; subsequent violation | 28 CFR 85.3(b)(3)(ii) | 255,964 | 262,614
42 U.S.C. 12188(b)(2)(C)(i) | Americans With Disabilities Act; Public accommodations for individuals with disabilities, first violation | 28 CFR 36.504(a)(3)(i) | 115,231 | 118,225
42 U.S.C. 12188(b)(2)(C)(ii) | Americans With Disabilities Act; Public accommodations for individuals with disabilities subsequent violation | 28 CFR 36.504(a)(3)(ii) | 230,464 | 236,451
50 U.S.C. 4041(b)(3) | Servicemembers Civil Relief Act of 2003; first violation | 28 CFR 85.3(b)(4)(i) | 77,370 | 79,380
50 U.S.C. 4041(b)(3) | Servicemembers Civil Relief Act of 2003; subsequent violation | 28 CFR 85.3(b)(4)(ii) | 154,741 | 158,761
Criminal Division
18 U.S.C. 983(h)(1) | Civil Asset Forfeiture Reform Act of 2000; Penalty for Frivolous Assertion of Claim |  | Min 442, Max 8,842 | Min 453, Max 9,072
18 U.S.C. 1956(b) | Money Laundering Control Act of 1986; Violation ⁸ |  | 27,894 | 28,619
DEA
21 U.S.C. 844a(a) | Anti-Drug Abuse Act of 1988; Possession of small amounts of controlled substances (per violation) | 28 CFR 76.3(a) | 25,597 | 26,262
21 U.S.C. 961(1) | Controlled Substance Import Export Act; Drug abuse, import or export | 28 CFR 85.3(d) | 88,934 | 91,245
21 U.S.C. 842(c)(1)(A) | Controlled Substances Act (“CSA”); Violations of 842(a)—other than (5), (10), (16) and (17)—Prohibited acts re: controlled substances (per violation) |  | 80,850 | 82,950
21 U.S.C. 842(c)(1)(B)(i) | CSA; Violations of 842(a)(5), (10), and (17)—Prohibited acts re: controlled substances |  | 18,759 | 19,246
21 U.S.C. 842(c)(1)(B)(ii) | SUPPORT for Patients and Communities Act; Violations of 842(b)(ii)—Failures re: opioids |  | 121,664 | 124,825
21 U.S.C. 842(c)(1)(C) | CSA; Violation of 825(e) by importer, exporter, manufacturer, or distributor—False labeling of anabolic steroids (per violation) |  | 647,907 | 664,740
21 U.S.C. 842(c)(1)(D) | CSA; Violation of 825(e) at the retail level—False labeling of anabolic steroids (per violation) |  | 1,296 | 1,330
21 U.S.C. 842(c)(2)(C) | CSA; Violation of 842(a)(11) by a business—Distribution of laboratory supply with reckless disregard ⁹ |  | 485,893 | 498,517
21 U.S.C. 842(c)(2)(D) | SUPPORT for Patients and Communities Act; Violations of 842(a)(5), (10) and (17) by a registered manufacture or distributor of opioids. Failures re: opioids |  | 608,319 | 624,123
21 U.S.C. 856(d) | Illicit Drug Anti-Proliferation Act of 2003; Maintaining drug-involved premises ¹⁰ |  | 448,047 | 459,687
Immigration-Related Penalties
8 U.S.C. 1324a(e)(4)(A)(i) | Immigration Reform and Control Act of 1986 (“IRCA”); Unlawful employment of aliens, first order (per unauthorized alien) | 28 CFR 68.52(c)(1)(i) | Min 698, Max 5,579 | Min 716, Max 5,724
8 U.S.C. 1324a(e)(4)(A)(ii) | IRCA; Unlawful employment of aliens, second order (per such alien) | 28 CFR 68.52(c)(1)(ii) | Min 5,579, Max 13,946 | Min 5,724, Max 14,308
8 U.S.C. 1324a(e)(4)(A)(iii) | IRCA; Unlawful employment of aliens, subsequent order (per such alien) | 28 CFR 68.52(c)(1)(iii) | Min 8,369, Max 27,894 | Min 8,586, Max 28,619
8 U.S.C. 1324a(e)(5) | IRCA; Paperwork violation (per relevant individual) | 28 CFR 68.52(c)(5) | Min 281, Max 2,789 | Min 288, Max 2,861
8 U.S.C. 1324a (note) | IRCA; Violation relating to participating employer's failure to notify of final nonconfirmation of employee's employment eligibility (per relevant individual) | 28 CFR 68.52(c)(6) | Min 973, Max 1,942 | Min 998, Max 1,992
8 U.S.C. 1324a(g)(2) | IRCA; Violation/prohibition of indemnity bonds (per violation) | 28 CFR 68.52(c)(7) | 2,789 | 2,861
8 U.S.C. 1324b(g)(2)(B)(iv)(I) | IRCA; Unfair immigration-related employment practices, first order (per individual discriminated against) | 28 CFR 68.52(d)(1)(viii) | Min 575, Max 4,610 | Min 590, Max 4,730
8 U.S.C. 1324b(g)(2)(B)(iv)(II) | IRCA; Unfair immigration- related employment practices, second order (per individual discriminated against) | 28 CFR 68.52(d)(1)(ix) | Min 4,610, Max 11,524 | Min 4,730, Max 11,823
8 U.S.C. 1324b(g)(2)(B)(iv)(III) | IRCA; Unfair immigration-related employment practices, subsequent order (per individual discriminated against) | 28 CFR 68.52(d)(1)(x) | Min 6,913, Max 23,048 | Min 7,093, Max 23,647
8 U.S.C. 1324b(g)(2)(B)(iv)(I V) | IRCA; Unfair immigration-related employment practices, unfair documentary practices (per individual discriminated against) | 28 CFR 68.52(d)(1)(xii) | Min 230, Max 2,304 | Min 236, Max 2,364
8 U.S.C. 1324c(d)(3)(A) | IRCA; Document fraud, first order—for violations described in U.S.C. 1324c(a)(1)-(4) (per document) | 28 CFR 68.52(e)(1)(i) | Min 575, Max 4,610 | Min 590, Max 4,730
8 U.S.C. 1324c(d)(3)(B) | IRCA; Document fraud, subsequent order—for violations described in U.S.C. 1324c(a)(1)-(4) (per document) | 28 CFR 68.52(e)(1)(iii) | Min 4,610, Max 11,524 | Min 4,730, Max 11,823
8 U.S.C. 1324c(d)(3)(A) | IRCA; Document fraud, first order—for violations described in U.S.C. 1324c(a)(5)-(6) (per document) | 28 CFR 68.52(e)(1)(ii) | Min 487, Max 3,887 | Min 500, Max 3,988
8 U.S.C. 1324c(d)(3)(B) | IRCA; Document fraud, subsequent order—for violations described in U.S.C. 1324c(a)(5)-(6) (per document) | 28 CFR 68.52(e)(1)(iv) | Min 3,887, Max 9,718 | Min 3,988, Max 9,970
FBI
49 U.S.C. 30505(a) | National Motor Vehicle Title Identification System; Violation (per violation) |  | 2,058 | 2,111
Office of Justice Programs
34 U.S.C. 10231(d) | Confidentiality of information; State and Local Criminal History Record Information Systems—Right to Privacy Violation | 28 CFR 20.25 | 35,574 | 36,498
¹ The figures set forth in this column represent the penalty as last adjusted by Department of Justice regulation on February 12, 2024.
² All figures set forth in this table are maximum penalties, unless otherwise indicated.
³ Section 3729(a)(1) of Title 31 provides that any person who violates this section is liable to the United States Government for a civil penalty of not less than $5,000 and not more than $10,000, as adjusted by the Federal Civil Penalties Inflation Adjustment Act of 1990, plus 3 times the amount of damages which the Government sustains because of the act of that person. 31 U.S.C. 3729(a)(1) (2015). Section 3729(a)(2) permits the court to reduce the damages under certain circumstances to not less than 2 times the amount of damages which the Government sustains because of the act of that person. Id. section 3729(a)(2). The adjustment made by this regulation is only applicable to the specific statutory penalty amounts stated in subsection (a)(1), which is only one component of the civil penalty imposed under section 3729(a)(1).
⁴ Section 8706(a)(1) of Title 41 provides that the Federal Government in a civil action may recover from a person that knowingly engages in conduct prohibited by section 8702 of Title 44 a civil penalty equal to twice the amount of each kickback involved in the violation and not more than $10,000 for each occurrence of prohibited conduct. 41 U.S.C. 8706(a)(1) (2015). The adjustment made by this regulation is only applicable to the specific statutory penalty amount stated in subsection (a)(1)(B), which is only one component of the civil penalty imposed under section 8706.
⁵ Section 216(b) of Title 18 provides that the civil penalty should be no more than $50,000 for each violation or the amount of compensation which the person received or offered for the prohibited conduct, whichever amount is greater. 18 U.S.C. 216(b) (2015). Therefore, the adjustment made by this regulation is only applicable to the specific statutory penalty amount stated in subsection (b), which is only one aspect of the possible civil penalty imposed under section 216(b).
⁶ Section 2105(b) of Title 41 provides that the Attorney General may bring a civil action in an appropriate district court of the United States against a person that engages in conduct that violates section 2102, 2103, or 2104 of Title 41. 41 U.S.C. 2105(b) (2015). Section 2105(b) further provides that on proof of that conduct by a preponderance of the evidence, an individual is liable to the Federal Government for a civil penalty of not more than $50,000 for each violation plus twice the amount of compensation that the individual received or offered for the prohibited conduct, and an organization is liable to the Federal Government for a civil penalty of not more than $500,000 for each violation plus twice the amount of compensation that the organization received or offered for the prohibited conduct. Id. section 2105(b). The adjustments made by this regulation are only applicable to the specific statutory penalty amounts stated in subsections (b)(1) and (b)(2), which are each only one component of the civil penalties imposed under sections 2105(b)(1) and (b)(2).
⁷ The Attorney General has authority to bring a civil action when a person has violated or is about to violate a provision under this statute. 42 U.S.C. 5157(b) (2015). The Federal Emergency Management Agency has promulgated regulations regarding this statute and has adjusted the penalty in its regulation. 44 CFR 206.14(d) (2015). The Department of Health and Human Services (HHS) has also promulgated a regulation regarding the penalty under this statute. 42 CFR 38.8 (2015).
⁸ Section 1956(b)(1) of Title 18 provides that whoever conducts or attempts to conduct a transaction described in subsection (a)(1) or (a)(3), or section 1957, or a transportation, transmission, or transfer described in subsection (a)(2), is liable to the United States for a civil penalty of not more than the greater of the value of the property, funds, or monetary instruments involved in the transaction; or $10,000. 18 U.S.C. 1956(b)(1) (2015). The adjustment made by this regulation is only applicable to the specific statutory penalty amount stated in subsection (b)(1)(B), which is only one aspect of the possible civil penalty imposed under section 1956(b).
⁹ Section 842(c)(2)(C) of Title 21 provides that in addition to the penalties set forth elsewhere in the subchapter or subchapter II of the chapter, any business that violates paragraph (11) of subsection (a) of the section shall, with respect to the first such violation, be subject to a civil penalty of not more than $250,000, but shall not be subject to criminal penalties under the section, and shall, for any succeeding violation, be subject to a civil fine of not more than $250,000 or double the last previously imposed penalty, whichever is greater. 21 U.S.C. 842(c)(2)(C) (2015). The adjustment made by this regulation regarding the penalty for a succeeding violation is only applicable to the specific statutory penalty amount stated in subsection (c)(2)(C), which is only one aspect of the possible civil penalty for a succeeding violation imposed under section 842(c)(2)(C).
¹⁰ Section 856(d)(1) of Title 21 provides that any person who violates subsection (a) of the section shall be subject to a civil penalty of not more than the greater of $250,000; or 2 times the gross receipts, either known or estimated, that were derived from each violation that is attributable to the person. 21 U.S.C. 856(d)(1) (2015). The adjustment made by this regulation is only applicable to the specific statutory penalty amount stated in subsection (d)(1)(A), which is only one aspect of the possible civil penalty imposed under section 856(d)(1).
¹¹ The SUPPORT for Patients and Communities Act, Public Law 115-221 was enacted Oct. 24, 2018.

Dated: June 30, 2025.
Nicholas Schilling Jr.,
Supervisory Official, Office of Legal Policy.

[FR Doc. 2025-12494 Filed 7-2-25; 8:45 am]

BILLING CODE 4410-BB-P